FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than November 18, 2002.

A. Federal Reserve Bank of Cleveland (Stephen J. Ong, Vice President) 1455 East Sixth Street, Cleveland, Ohio 44101-2566:

1. KeyCorp, Cleveland, Ohio, and Buffalo Acquiror Sub, Inc., Cleveland, Ohio; to acquire 100 percent of the voting shares of Union Bankshares, Ltd., Denver, Colorado, and thereby indirectly acquire voting shares of Union Bank & Trust, Denver, Colorado.

B. Federal Reserve Bank of Chicago (Phillip Jackson, Applications Officer) 230 South LaSalle Street, Chicago, Illinois 60690-1414:

1. Backlund Investment Co., Peoria, Illinois; to merge with Astoria Investment Company, Astoria, Illinois, and thereby indirectly acquire Farmers State Bank, Astoria, Astoria, Illinois; Bartonville Investment Co., Peoria, Illinois, and thereby indirectly acquire Bartonville Bank, Bartonville, Illinois; Backlund-White, Inc., Peoria, Illinois, and thereby indirectly acquire Glasford State Bank, Glasford, Illinois; Backlund-Scott Company, Wyoming, Illinois and thereby indirectly acquire Wyoming Bank & Trust Company, Wyoming, Illinois.

2. Backlund Investment Co., Peoria, Illinois; to acquire 100 percent of the voting shares of Dunlap Bank, Dunlap, Illinois.

3. Backlund Investment Co., Peoria, Illinois; to acquie at least 25 percent of the voting shares of Hopedale Investment Company, Hopedale, Illinois, and thereby indirectly acquire Community Bank of Hopedale, Hopedale, Illinois.

C. Federal Reserve Bank of St. Louis (Randall C. Sumner, Vice President) 411 Locust Street, St. Louis, Missouri 63166-2034:

1.First Banks, Inc., St. Louis, Missouri; to acquire 100 percent of the voting shares of Bank of Ste. Genevieve, Ste. Genevieve, Missouri.

D. Federal Reserve Bank of San Francisco (Maria Villanueva, Consumer Regulation Group) 101 Market Street, San Francisco, California 94105-1579:

1. BankWest Nevada Corporation, Las Vegas, Nevada; to acquire 100 percent of the voting shares of Alliance Bank of Arizona, Phoenix, Arizona, (in organization).

Board of Governors of the Federal Reserve System, October 18, 2002.
Robert deV. Frierson,
Deputy Secretary of the Board.

[FR Doc. 02-27065 Filed 10-23-02; 8:45 am]

BILLING CODE 6210-01-S